SECURITIES AND EXCHANGE COMMISSION

Submission for OMB Review; Comment Request

Upon Written Request, Copies Available From: Securities and Exchange Commission, Office of Filings and Information Services, Washington, DC 20549.

Extension:

Regulations 13D and 13G; Schedules 13D and 13G; OMB Control No. 3235-0145; SEC File No. 270-137.

Notice is hereby given that pursuant to the Paperwork Reduction Act of 1995 (44 U.S.C. 3501 et seq.), the Securities and Exchange Commission (“Commission”) has submitted to the Office of Management and Budget a request for extension of the previously approved collection of information discussed below.

Schedules 13D and 13G are filed pursuant to sections 13(d) and 13(g) of the Securities Exchange Act of 1934 (“Exchange Act”) and Regulation 13D and 13G thereunder, to report beneficial ownership of equity securities registered under section 12 of the Exchange Act. Regulations 13D and 13G provide investors and the subject issuers with information about accumulations of securities that may have the potential to change or influence control of the issuer. Schedules 13D and Schedule 13G are used by persons, including small entities, to report their ownership of more than 5% of a class of equity securities registered under section 12. We estimate that it takes approximately 43,500 total burden hours to prepare a Schedule 13D and that it is filed by approximately 3,000 respondents. The respondent prepares 25% of the 43,500 annual burden hours for a total reporting burden of 10,875 hours. Schedule 13G takes approximately 98,800 total burden hours to prepare and is filed by an estimated 9,500 respondents. The respondent prepares 25% of the 98,800 annual burden hours for a total reporting burden of 24,700 hours.

The information provided by respondents is mandatory. Schedule 13D or Schedule 13G is filed by a respondent only when necessary. All information provided to the Commission is public. However, Rules 0-6 and 24b-2 under the Exchange Act permit reporting persons to request confidential treatment for certain sensitive information concerning national security, trade secrets, or privileged commercial or financial information.

An agency may conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Office of Information Technology, Securities and Exchange Commission, 100 F Street, NE., Washington, DC 20549. Comments must be submitted to OMB within 30 days of this notice.

October 10, 2005.
J. Lynn Taylor,
Assistant Secretary.

[FR Doc. E5-5743 Filed 10-18-05; 8:45 am]

BILLING CODE 8010-01-P